DEPARTMENT OF THE INTERIOR

Bureau of Ocean Energy Management, Regulation and Enforcement

Environmental Documents Prepared for Proposed Oil, Gas, and Mineral Operations by the Gulf of Mexico Outer Continental Shelf (OCS) Region

AGENCY: Bureau of Ocean Energy Management, Regulation and Enforcement, Interior.

ACTION: Notice of the Availability of Environmental Documents Prepared for OCS Mineral Proposals by the Gulf of Mexico OCS Region.

SUMMARY: The Bureau of Ocean Energy Management, Regulation and Enforcement (BOEMRE), in accordance with Federal Regulations that implement the National Environmental Policy Act (NEPA), announces the availability of NEPA-related Site-Specific Environmental Assessments (SEA) and Findings of No Significant Impact (FONSI), prepared by BOEMRE for the following oil-, gas-, and mineral-related activities proposed on the Gulf of Mexico.

FOR FURTHER INFORMATION CONTACT: Public Information Unit, Information Services Section at the number below. Bureau of Ocean Energy Management, Regulation and Enforcement, Gulf of Mexico OCS Region, Attention: Public Information Office (MS 5034), 1201 Elmwood Park Boulevard, Room 114, New Orleans, Louisiana 70123-2394, or by calling 1-800-200-GULF.

SUPPLEMENTARY INFORMATION: BOEMRE prepares SEAs and FONSIs for proposals that relate to exploration, development, production, and transport of oil, gas, and mineral resources on the Federal OCS. These SEAs examine the potential environmental effects of activities described in the proposals and present BOEMRE conclusions regarding whether those effects have significant impacts. Environmental Assessments are used to evaluate impacts and assist in determining whether or not approval of the proposals constitutes a major Federal action that significantly affects the quality of the human environment under Section 102(2)(C) of NEPA. A FONSI is prepared in those instances where BOEMRE finds that approval will not result in significant effects on the quality of the human environment. The FONSI briefly presents the basis for that finding and includes a summary or copy of the SEA. This notice constitutes the public notice of availability of environmental documents required under the NEPA Regulations.

Activity/operator | Location | Date
Energy Resource Technology GOM, Inc., Structure Removal, SEA ES/SR 00-066A | West Cameron, Block 405, Lease OCS-G 23631, located 68 miles from the nearest Louisiana shoreline | 1/6/2010
Energy Resource Technology GOM, Inc., Structure Removal, SEA ES/SR 07-016A | East Cameron, Block 140, Lease OCS-G 25950, located 45 miles from the nearest Louisiana shoreline | 1/7/2010
Energy Resource Technology GOM, Inc., Structure Removal, SEA ES/SR 09-228 | South Marsh Island, Block 35, Lease OCS-G 21614, located 40 miles from the nearest Louisiana shoreline | 1/7/2010
Helis Oil & Gas Company, LLC, Structure Removal, SEA ES/SR 08-163A | West Cameron, Block 43, Lease OCS-G 16107, located 6 miles from the nearest Louisiana shoreline | 1/7/2010
Virgin Offshore, USA, Inc., Structure Removal, SEA ES/SR 10-002 | High Island, Block 198, Lease OCS-G 17151, located 32 miles from the nearest Louisiana shoreline | 1/8/2010
Energy Resource Technology GOM, Inc., Structure Removal, SEA ES/SR 10-001 | West Cameron, Block 342, Lease OCS-G 27023, located 53 miles from the nearest Louisiana shoreline | 1/14/2010
Energy Resource Technology GOM, Inc., Structure Removal, SEA ES/SR 09-235 | Eugene Island, Block 128A, Lease OCS-G 00442, located 33 miles from the nearest Louisiana shoreline | 1/15/2010
BP Exploration & Production, Inc., Revised Exploration Plan, SEA R-5001 AA | Mississippi Canyon, Block 778, Lease OCS-G 09868, located in the Central Planning Area of the Gulf of Mexico, 66 miles from offshore, southeast of Venice, Louisiana | 1/20/2010
Helis Oil & Gas Company, LLC, Structure Removal, SEA ES/SR 09-236 | Ship Shoal, Block 53, Lease OCS-G 26051, located 15 miles from the nearest Louisiana shoreline | 1/21/2010
Tana Exploration Company, LLC, Structure Removal, SEA ES/SR 10-003 | East Cameron, Block 206, Lease OCS-G 13968, located 55 miles from the nearest Louisiana shoreline | 1/22/2010
Chevron U.S.A., Inc., Structure Removal, SEA ES/SR 08-026A & 08-059A | East Cameron, Block 272, Lease OCS-G 02047, located 79 miles from the nearest Louisiana shoreline | 1/22/2010
Energy Resource Technology GOM, Inc., Structure Removal, SEA ES/SR 09-232, 09233 & 09-234 | Eugene Island, Block 128A, Lease OCS-G 00442, located 33 miles from the nearest Louisiana shoreline | 1/22/2010
Energy Resource Technology GOM, Inc., Structure Removal, SEA ES/SR 09-229, 09230 & 09-231 | Ship Shoal, Block 59 & 76, Lease OCS-G 11977 & G 10762, located 16 miles from the nearest Louisiana shoreline | 1/22/2010
Beryl Oil & Gas LP, Structure Removal, SEA ES/SR 10-004 | South Timbalier, Block 197, Lease OCS-G 05611, located 40 miles from the nearest Louisiana shoreline | 1/22/2010
BHP Billiton Petroleum (GOM), Inc., Revised Exploration Plan, SEA R-5013 AA | Green Canyon, Block 555, Lease OCS-G 22979, located in the Central Planning Area of the Gulf of Mexico, 118 miles offshore, south of Houma, Louisiana | 2/11/2010
Mariner Energy, Inc., Structure Removal, SEA ES/SR 10-005 | South Marsh Island, Block 11, Lease OCS-G 01182, located 35 miles from the nearest Louisiana shoreline | 2/11/2010
McMoRan Oil & Gas, LLC, Structure Removal, SEA ES/SR 09-046 | East Cameron, Block 286, Lease OCS-G 02051, located 84 miles from the nearest Louisiana shoreline | 2/12/2010
BHP Billiton Petroleum (GOM), Inc., Revised Exploration Plan, SEA R-5012 AA | Green Canyon, Block 817, Lease OCS-G 31753, located in the Central Planning Area of the Gulf of Mexico, 130 miles offshore, south of Terrebonne Parish, Louisiana | 2/12/2010
LLOG Exploration & Production Company, Structure Removal, SEA ES/SR 09-203 | High Island, Block A282, Lease OCS-G 24419, located 90 miles from the nearest Texas shoreline | 2/12/2010
Shell Offshore, Inc., Geological & Geophysical Prospecting for Mineral Resources, SEA L10-001 | Located in the Central Gulf of Mexico south of Venice, Louisiana | 2/12/2010
Marathon Oil Company, Revised Exploration Plan, SEA R-5015 AA | Green Canyon, Block 511, Lease OCS-G 22971, located in the Central Planning Area of the Gulf of Mexico, 108 miles offshore, south of Terrebone Parish, Louisiana | 2/23/2010
Tana Exploration Company, LLC, Structure Removal, SEA ES/SR 10-007 | East Cameron, Block 271, Lease OCS-G 27050, located 90 miles from the nearest Louisiana shoreline | 2/25/2010
Chevron U.S.A., Inc., Structure Removal, SEA ES/SR 08-061A | Eugene Island, Block 276, Lease OCS-G 00989, located 63 miles from the nearest Louisiana shoreline | 2/25/2010
XTO Offshore, Inc., Structure Removal, SEA ES/SR 10-008 | Matagorda Island, Block 632, Lease OCS-G 03091, located 13 miles from the nearest Texas shoreline | 3/1/2010
Chevron USA, Inc., Structure Removal, SEA ES/SR 10-006 | Grand Isle, Block 37, Lease OCS-G 00392, located 7 miles from the nearest Louisiana shoreline | 3/8/2010
Energy Resource Technology GOM, Inc., Structure Removal, SEA ES/SR 10-016 | South Pelto, Block 12, Lease OCS-G 10835, located 9 miles from the nearest Louisiana shoreline | 3/8/2010
Stone Energy Corporation, Structure Removal, SEA ES/SR 10-009 | South Pelto, Block 15, Lease OCS-G 09652, located 10 miles from the nearest Louisiana shoreline | 3/8/2010
ATP Oil & Gas Corporation, Structure Removal, SEA ES/SR 10-014 & 10-015 | South Timbalier, Block 77, Lease OCS-G 04827, located 18 miles from the nearest Louisiana shoreline | 3/8/2010
Cronus Offshore, Inc., Structure Removal, SEA ES/SR 89-052A | Brazos, Block A22, Lease OCS-G 03937, located 35 miles from nearest Texas shoreline | 3/10/2010
BP Exploration & Production, Inc., Geological & Geophysical Exploration for Mineral Resources, SEA L10-007 | Located in the Central Gulf of Mexico south of Morgan City, Louisiana | 3/17/2010
GOM Shelf, LLC, Structure Removal, SEA ES/SR 10-025 | South Marsh Island, Block 174, Lease OCS-G 02888, located 95 miles from the nearest Louisiana shoreline | 3/19/2010
Energy Resource Technology GOM, Inc., Structure Removal, SEA ES/SR 10-013 | Vermilion, Block 199, Lease OCS-G 09499, located 56 miles from the nearest Louisiana shoreline | 3/19/2010
Energy Resource Technology GOM, Inc., Structure Removal, SEA ES/SR 10-012 | West Cameron, Block 347, Lease OCS-G 22543, located 41 miles from the nearest Louisiana shoreline | 3/19/2010
Apache Corporation, Structure Removal, SEA ES/SR 10-024 | Eugene Island, Block 380, Lease OCS-G 02327, located 95 miles from the nearest Louisiana shoreline | 3/22/2010
Energy Resource Technology GOM, Inc., Structure Removal, SEA ES/SR 10-011 | West Cameron, Block 444, lease OCS-G 25915, located 74 miles from the nearest Louisiana shoreline | 3/23/2010
Shell Offshore, Inc., Revised Exploration Plan, SEA R-5030 AA | Walker Ridge, Block 95, Lease OCS-G 31943, located in the Central Planning Area of the Gulf of Mexico, 160 miles offshore, south of Morgan City, Louisiana | 3/31/2010

Persons interested in reviewing environmental documents for the proposals listed above or obtaining information about SEAs and FONSIs prepared by the Gulf of Mexico OCS Region are encouraged to contact BOEMRE at the address or telephone listed in the FOR FURTHER INFORMATION CONTACT section.

Dated: October 4, 2010.
Robert P. LaBelle,
Acting Associate Director for Offshore Energy and Minerals Management.

[FR Doc. 2010-27806 Filed 11-3-10; 8:45 am]

BILLING CODE 4310-MR-P